Title 3—

The President

Space Policy Directive-1 of December 11, 2017

Reinvigorating America's Human Space Exploration Program

Memorandum for the Vice President[,] the Secretary of State[,] the Secretary of Defense[,] the Secretary of Commerce[,] the Secretary of Transportation[,] the Secretary of Homeland Security[,] the Director of National Intelligence[,] the Director of the Office of Management and Budget[,] the Assistant to the President for National Security Affairs[,] the Administrator of the National Aeronautics and Space Administration[,] the Director of the Office of Science and Technology Policy[,] the Assistant to the President for Homeland Security and Counterterrorism[, and] the Chairman of the Joint Chiefs of Staff

Section 1. Amendment to Presidential Policy Directive-4.

Presidential Policy Directive-4 of June 28, 2010 (National Space Policy), is amended as follows:

The paragraph beginning “Set far-reaching exploration milestones” is deleted and replaced with the following:

“Lead an innovative and sustainable program of exploration with commercial and international partners to enable human expansion across the solar system and to bring back to Earth new knowledge and opportunities. Beginning with missions beyond low-Earth orbit, the United States will lead the return of humans to the Moon for long-term exploration and utilization, followed by human missions to Mars and other destinations;”.

Sec. 2. General Provisions. (a) Nothing in this memorandum shall be construed to impair or otherwise affect:

(i) the authority granted by law to an executive department or agency, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

(d) This memorandum shall be published in the Federal Register.

THE WHITE HOUSE,

Washington, December 11, 2017

[FR Doc. 2017-27160

Filed 12-13-17; 11:15 am]

Billing code 3295-F8-P